DEPARTMENT OF THE INTERIOR

Bureau of Indian Affairs

[AAK6006201 156A2100DD AOR3B3030.999900]

Draft Environmental Impact Statement for the Proposed Pokagon Band of Potawatomi Indians Fee-to-Trust Transfer for Tribal Village and Casino, City of South Bend, St. Joseph County, Indiana

AGENCY: Bureau of Indian Affairs, Interior.

ACTION: Notice of Availability.

SUMMARY: This notice advises the public that the Bureau of Indian Affairs (BIA), in cooperation with the Pokagon Band of Potawatomi Indians (Tribe), intends to file a draft environmental impact statement (DEIS) with the U.S. Environmental Protection Agency (EPA) for the Tribe's application requesting a fee-to-trust transfer of land located within the municipal limits of the City of South Bend, Indiana, for the construction of a tribal housing, government facilities, and a Class III gaming facility. This notice also announces that the DEIS is available for public review and that a public hearing will be held to receive comments.

DATES: The date of the public meeting will be announced at least 15 days in advance through a notice in the South Bend Tribune and on the following Web site: www.pokagonsouthbendeis.com. Written comments on the DEIS must arrive within 45 days after EPA publishes its Notice of Availability in the Federal Register.

ADDRESSES: The public hearing will be held at the South Bend Century Center, 120 S. St. Joseph Street, South Bend, IN 46601. You may send comments to Mr. Scott Doig, Environmental Protection Specialist, Midwest Regional Office, Bureau of Indian Affairs, 5600 West American Blvd. Suite 500, Bloomington, MN 55437 or via email to Scott.Doig@bia.gov. See the SUPPLEMENTARY INFORMATION section of this notice for addresses where the DEIS is available for review.

FOR FURTHER INFORMATION CONTACT: Mr. Scott Doig, Environmental Protection Specialist, at (612) 725-4514.

SUPPLEMENTARY INFORMATION: Compliance with the National Environmental Policy Act (NEPA) and public review of the DEIS are part of the administrative process for the evaluation of the Tribe's application under the Pokagon Restoration Act, 25 U.S.C. 1300j et seq., and the Department's land-into-trust regulations at 25 CFR part 151. Under the Council on Environmental Quality National Environmental Policy Act (NEPA) regulations (40 CFR 1506.10), the publication of the Notice of Availability by the EPA in the Federal Register initiates the 45-day public comment period.

The Tribe has requested that the Secretary of the Interior accept in trust status for the benefit of the Tribe certain real property consisting of 18 parcels of land totaling 165.81 acres, more or less, that are located in within the municipal limits of the City of South Bend in St. Joseph County, Indiana. The purpose of the proposed action is to improve access to essential tribal government services, and provide housing, employment opportunities, and economic development for the tribal community residing in northern Indiana. The Tribe proposes to develop 44 housing units, a multi-purpose facility, health service and other tribal government facilities. The Tribe also proposes to develop a Class III gaming facility with a hotel, restaurants, meeting space, and a parking garage.

The BIA held a public scoping meeting on September 27, 2012. Alternatives considered in the DEIS include: (1) Preferred alternative—South Bend tribal housing government facilities and casino, (2) Elkhart site with same uses as the preferred alternative, (3) South Bend site with government facilities and commercial development, and (4) no action. Environmental issues addressed in the DEIS include land resources, water resources, air quality, biological resources, cultural resources, socioeconomic conditions, resource use, public services, noise, hazardous materials, visual resources, environmental justice, cumulative effects, indirect effects, unavoidable adverse effects, and mitigation.

Directions for Submitting Comments: Please include your name, return address and the title “DEIS Comments, Pokagon Tribal project” on the first page of your written comments.

Locations where the DEIS is Available for Review: The DEIS will be available at the South Bend Public Library, main branch-304 S. Main St., South Bend, IN 46601, and the Elkhart Public Library main branch-300 S 2nd St, Elkhart, IN 46516. An electronic version of the DEIS can be viewed at the following Web site: www.pokagonsouthbendeis.com.

If you would like to obtain a compact disc copy of the DEIS, please provide your name and address in writing or by voicemail to Scott Doig. His contact information is listed in the ADDRESSES section of this notice. Individual paper copies of the DEIS will be provided only upon payment of applicable printing expenses by the requestor for the number of copies requested.

Public Comment Availability: Comments, including names and addresses of respondents, will be available for public review at the BIA address shown in the ADDRESSES section, during regular business hours, 8:00 a.m. to 4:30 p.m., Monday through Friday, except holidays. Before including your address, phone number, email address, or other personal identifying information in your comment, you should be aware that your entire comment—including your personal identifying information—may be made publicly available at any time. While you can ask in your comment that your personal identifying information be withheld from public review, BIA cannot guarantee that this will occur.

Authority: This notice is published in accordance with section 1503.1 of the Council of Environmental Quality regulations (40 CFR 1500 et seq.) and the Department of the Interior Regulations (43 CFR part 46) implementing the procedural requirements of the NEPA (42 U.S.C. 4321 et seq.), and in accordance with the exercise of authority delegated to the Assistant Secretary—Indian Affairs by part 209 of the Department Manual.

Dated: March 3, 2015.
Kevin K. Washburn,
Assistant Secretary—Indian Affairs.

[FR Doc. 2015-05573 Filed 3-11-15; 8:45 am]

BILLING CODE 4337-2A-P